DEPARTMENT OF HEALTH AND HUMAN SERVICES

Announcement of Requirements and Registration for “Apps4Tots Health Challenge”

Authority: 15 U.S.C. 3719.

AGENCY: Office of the National Coordinator for Health Information Technology, HHS.

Award Approving Official: Farzad Mostashari, National Coordinator for Health Information Technology.

ACTION: Notice.

SUMMARY: As part of the Department of Health and Human Services digital services strategy, the Health Resources and Services Administration (HRSA), the Office of the National Coordinator for Health Information Technology (ONC), and Healthdata.gov are joining forces in an attempt to leverage two key assets recently made available to the public. The Apps4TotsHealth Challenge is a call for developers, researchers, and other innovators to make use of the Healthdata.gov data API and integrate the TXT4Tots message library into a new or existing platform.

TXT4Tots is a library of short, evidence-based messages focused on nutrition and physical activity. The library is targeted to parents and caregivers of children, ages 1-5 years, and is available in English and Spanish. Content for the messages was derived from American Academy of Pediatrics (AAP) Bright Futures: Guidelines for Health Supervision of Infants, Children and Adolescents, which uses a developmentally based approach to address children's health needs in the context of family and community.

Healthdata.gov (www.healthdata.gov) is the Department's open data catalog, housing metadata records on close to 400 HHS datasets. Recently, Healthdata.gov has enabled a publicly-accessible data application programming interface (API) that allows programmatic access to the TXT4Tots message library.

The statutory authority for this challenge competition is Section 105 of the America COMPETES Reauthorization Act of 2010 (Public L. No 111-358).

DATES:

• Submission period begins: April 11, 2013.

• Submission period ends: May 20, 2013.

• Winners announced: Health Datapalooza, June 3-4, 2013.

FOR FURTHER INFORMATION CONTACT: Adam Wong, 202-720-2866.

SUPPLEMENTARY INFORMATION:

Subject of Challenge Competition

The Apps4TotsHealth Challenge is a call for developers, researchers, and other innovators to make use of the Healthdata.gov data API and integrate the TXT4Tots message library into a new or existing platform. The intent of the challenge is two-fold:

1. Showcase the use of the new data API on Healthdata.gov.

2. Incorporate the TXT4Tots message library into a new or existing platform.

It is important to note that stand-alone applications that only use the TXT4Tots message library will not be sufficient to qualify for an award. An app that asks for the child's birth date and begins texting the parents based on the age of the child would not be innovative. Instead, we are looking to you to use the TXT4Tots library content as part of a larger application, where these messages will augment existing content and provide for a richer application as a result.

Instructions for how to use the Healthdata.gov data API can be found at http://healthdata.gov/data-api.

The application submitted must:

• Demonstrate use of the Healthdata.gov data API to integrate the TXT4Tots message library into an existing platform or new platform aimed at providing interactions between the data source and an existing function.

• Demonstrate the use of the information to augment messaging aimed toward consumer or health care providers.

• The content may be integrated into an existing web, mobile, voice, electronic health record, or other platform for supporting interactions of the content provided with other capabilities. Examples include query-based prompts that generate messages using the library, visualization methods that graphically display messages, delivery of information with other platforms with calendar functions, and uses of gaming approaches aimed at enhancing consumer actions directed from the text library, among others.

• Demonstrate creative user interfaces that optimize the user's understanding of the messages and ease-of-use of the applications.

• Demonstrate means by which services of the native application are enhanced by the integration of the new content.

To be eligible to receive a prize, Solvers must submit (1) the functioning application, or directions to access it, and (2) a PowerPoint slide deck, of no more than seven slides, that describes how the application addresses the requirements above.

Eligibility Rules for Participating in the Competition

To be eligible to win a prize under this challenge, an individual or entity—

(1) Shall have registered to participate in the competition under the rules promulgated by the Office of the National Coordinator for Health Information Technology.

(2) Shall have complied with all the requirements under this section.

(3) In the case of a private entity, shall be incorporated in and maintain a primary place of business in the United States, and in the case of an individual, whether participating singly or in a group, shall be a citizen or permanent resident of the United States.

(4) May not be a Federal entity or Federal employee acting within the scope of their employment.

(5) Shall not be an HHS employee working on their applications or submissions during assigned duty hours.

(6) Shall not be an employee of Office of the National Coordinator for Health IT.

(7) Federal grantees may not use Federal funds to develop COMPETES Act challenge applications unless consistent with the purpose of their grant award.

(8) Federal contractors may not use Federal funds from a contract to develop COMPETES Act challenge applications or to fund efforts in support of a COMPETES Act challenge submission.

An individual or entity shall not be deemed ineligible because the individual or entity used Federal facilities or consulted with Federal employees during a competition if the facilities and employees are made available to all individuals and entities participating in the competition on an equitable basis.

Entrants must agree to assume any and all risks and waive claims against the Federal Government and its related entities, except in the case of willful misconduct, for any injury, death, damage, or loss of property, revenue, or profits, whether direct, indirect, or consequential, arising from my participation in this prize contest, whether the injury, death, damage, or loss arises through negligence or otherwise.

Entrants must also agree to indemnify the Federal Government against third party claims for damages arising from or related to competition activities.

Registration Process for Participants

To register for this Challenge, participants can access either the http://www.challenge.gov Web site or the ONC Investing in Innovation Challenge Web site at http://www.health2con.com/devchallenge/challenges/onc-i2-challenges/.

Amount of the Prize

• Total: $25,000 in prizes.

• First Place: $17,500.

• Second Place: $5,000.

• Third Place: $2,500.

• Honorable Mention (no monetary award) for best not-yet-available application.

Awards may be subject to Federal income taxes and HHS will comply with IRS withholding and reporting requirements, where applicable.

Payment of the Prize

Prize will be paid by contractor.

Basis Upon Which Winner Will Be Selected

The review panel will make selections based upon the following criteria:

• Application usability and intuitive user interface—25%.

• Application completeness—25%.

• Creativity in solving specific health problem(s)—25%.

• Innovative integration into a larger platform (new or existing)—25%.

In order for an entry to be eligible to win this Challenge, it must meet the following requirements:

1. General—Contestants must provide continuous access to the tool, a detailed description of the tool, instructions on how to install and operate the tool, and system requirements required to run the tool (collectively, “Submission”).

2. Acceptable platforms—The tool must be designed for use with existing web, mobile, voice, electronic health record, or other platform for supporting interactions of the content provided with other capabilities.

3. Section 508 Compliance—Contestants must acknowledge that they understand that, as a pre-requisite to any subsequent acquisition by FAR contract or other method, they may be required to make their proposed solution compliant with Section 508 accessibility and usability requirements at their own expense. Any electronic information technology that is ultimately obtained by HHS for its use, development, or maintenance must meet Section 508 accessibility and usability standards. Past experience has demonstrated that it can be costly for solution-providers to “retrofit” solutions if remediation is later needed. The HHS Section 508 Evaluation Product Assessment Template, available at http://www.hhs.gov/od/vendors/index.html, provides a useful roadmap for developers to review. It is a simple, web-based checklist utilized by HHS officials to allow vendors to document how their products do or do not meet the various Section 508 requirements.

4. No HHS, ONC, or HRSA logo—The app must not use HHS', ONC's, or HRSA's logos or official seals in the Submission, and must not claim endorsement.

5. Functionality/Accuracy—A Submission may be disqualified if the software application fails to function as expressed in the description provided by the user, or if the software application provides inaccurate or incomplete information.

6. Security—Submissions must be free of malware. Contestant agrees that ONC may conduct testing on the app to determine whether malware or other security threats may be present. ONC may disqualify the app if, in ONC's judgment, the app may damage government or others' equipment or operating environment.

Additional Information

General Conditions: ONC reserves the right to cancel, suspend, and/or modify the Contest, or any part of it, for any reason, at ONC's sole discretion. Participation in this Contest constitutes a contestant's full and unconditional agreement to abide by the Contest's Official Rules found at www.challenge.gov.

Privacy Policy: ChallengePost collects personal information from you when you register on Challenge.gov. The information collected is subject to the ChallengePost privacy policy located at www.challengepost.com/privacy.

Ownership of intellectual property is determined by the following:

• Each entrant retains title and full ownership in and to their submission. Entrants expressly reserve all intellectual property rights not expressly granted under the Challenge agreement.

• By participating in the Challenge, each entrant hereby irrevocably grants to Sponsor and Administrator a limited, non-exclusive, royalty-free, worldwide license and right to reproduce, publically perform, publically display, and use the Submission to the extent necessary to administer the Challenge, and to publically perform and publically display the Submission, including, without limitation, for advertising and promotional purposes relating to the Challenge.

Dated: April 8, 2013.
Farzad Mostashari,
National Coordinator for Health Information Technology.

[FR Doc. 2013-08821 Filed 4-15-13; 8:45 am]

BILLING CODE 4150-45-P